DEPARTMENT OF HEALTH AND HUMAN SERVICES

Administration on Aging

Agency Information Collection Activities; Submission for OMB Review; Comment Request; Certification of Maintenance of Effort Form Title III of the Older Americans Act, Grants for State and Community Programs on Aging

AGENCY: Administration on Aging, HHS.

ACTION: Notice.

SUMMARY: The Administration on Aging (AoA) is announcing that the proposed collection of information listed below has been submitted to the Office of Management and Budget (OMB) for review and clearance under the Paperwork Reduction Act of 1995.

DATES: Submit written comments on the collection of information by July 17, 2002.

ADDRESSES: Submit written comments on the collection of information to the Office of Information and Regulatory Affairs, OMB, New Executive Office Bldg., 725 17th St. NW., rm. 10235, Washington, DC 20503, Attn: Allison Herron Eydt, Desk Officer for AoA.

FOR FURTHER INFORMATION CONTACT: Margaret A. Tolson, 202-401-0838.

SUPPLEMENTARY INFORMATION: In compliance with 44 U.S.C. 3507, AoA has submitted the following proposed collection of information to OMB for review and clearance.

Describe Collection of Information

The Certification of Maintenance of Effort will be used by the Administration on Aging to verify the amount of State expenditures for Title III of the Older Americans Act, and make comparisons with such expenditures for the three previous years' to assure that the State Agency on Aging is in compliance with 45 CFR 1321.49. AoA estimates the burden of this collection of information as follows: ½ hour per State Agency on Aging annually, for a total of 28 hours.

In the Federal Register of March 12, 2001 (Vol 67, No. 48 Page 1119), the agency requested comments on the proposed collection of information.

No comments were received.

Dated: May 30, 2002.
Josefina G. Carbonell,
Assistant Secretary for Aging.

[FR Doc. 02-15112 Filed 6-14-02; 8:45 am]

BILLING CODE 4154-01-P